DEPARTMENT OF DEFENSE

Office of the Secretary

32 CFR Part 272

RIN 0790-AH90

Administration and Support Basic Research

AGENCY: Office of the Secretary, DoD.

ACTION: Final rule.

SUMMARY: This document provides general policy guidance and principles for the conduct of DoD Components' Basic Research programs. It implements a general policy on the support of scientific research that is contained in the 1954 Executive Order 10521, “Administration of Scientific Research by Agencies of the Federal Government,” March 17, 1954. It also implements guiding principles for the government-university research partnership that are contained in Executive Order 13185, “To Strengthen the Federal Government-University Research Partnership.”

DATE: This final rule is effective September 23, 2005.

FOR FURTHER INFORMATION CONTACT: Mark Herbst, (703) 696-0372.

SUPPLEMENTARY INFORMATION:

Executive Order 12866

This is a “significant regulatory Action,” as defined in Executive Order 12866, in so far as the Office of Management and Budget reviewed and approved it for publication. This rule will not: (1) Have an annual effect on the economy of $100 million or more or adversely affect in a material way the economy, a sector of the economy, productivity, competition, jobs, the environment, public health or safety, or State, local, or tribal governments or communities; (2) create a serious inconsistency or otherwise interfere with an action taken or planned by another agency; (3) materially alter the budgetary impact of entitlements, grants, user fees, or loan programs or the rights and obligations of recipients thereof; or (4) raise novel legal or policy issues arising out of legal mandates, the President's priorities, or the principles set forth in Executive Order 12866.

Regulatory Flexibility Act of 1980 (5 U.S.C. 605(b))

This regulatory action will not have a significant adverse impact on a substantial number of small entities.

Unfunded Mandates Act of 1995 (Sec. 202, Pub. L. 104-4)

This regulatory action does not contain a Federal mandate that will result in the expenditure by State, local, and tribal governments, in aggregate, or by the private sector of $100 million or more in any one year.

Paperwork Reduction Act of 1995 (44 U.S.C. Chapter 35)

This regulatory action will not impose any additional reporting or recordkeeping requirements under the Paperwork Reduction Act.

Federalism (Executive Order 13132)

This regulatory action does not have Federalism implications, as set forth in Executive Order 13132. It will not have substantial direct effects on the States, on the relationship between the national government and the States, or on the distribution of power and responsibilities among the various levels of government.

List of Subjects in 32 CFR Part 272

National defense; Research; Science and technology.

Accordingly, Title 32 of the Code of Federal Regulations, Chapter I, Subchapter M is amended by revising part 272 to read as follows:

PART 272—ADMINISTRATION AND SUPPORT OF BASIC RESEARCH BY THE DEPARTMENT OF DEFENSE

Sec.
272.1 Purpose.
272.2 Applicability.
272.3 Definition of basic research.
272.4 Policy.
272.5 Responsibilities.
Appendix A to part 272—Principles for the Conduct and Support of Basic Research.

Authority: 5 U.S.C. 301 and 10 U.S.C. 113.

§ 272.1 Purpose

This part implements the:

(a) Policy on the support of scientific research in Executive Order 10521, “Administration of Scientific Research by Agencies of the Federal Government” (3 CFR, 1954-1958 Comp., p. 183), as amended; and

(b) Guiding principles for the government-university research partnership in Executive Order 13185, “To Strengthen the Federal Government-University Research Partnership” (3 CFR 2000 Comp., p. 341).

§ 272.2 Applicability.

This part applies to the Office of the Secretary of Defense, the Military Departments, the Chairman of the Joint Chiefs of Staff, the Combatant Commands, the Office of the Inspector General of the Department of Defense, the Defense Agencies, the DoD Field Activities, and all other organizational entities in the Department of Defense (hereafter referred to collectively as the “DoD Components”).

§ 272.3 Definition of basic research.

Basic research is systematic study directed toward greater knowledge or understanding of the fundamental aspects of phenomena and of observable facts without specific applications towards processes or products in mind. It includes all scientific study and experimentation directed toward increasing fundamental knowledge and understanding in those fields of the physical, engineering, environmental, and life sciences related to long-term national security needs. It is farsighted high payoff research that provides the basis for technological progress.

§ 272.4 Policy.

It is DoD policy that:

(a) Basic research is essential to the Department of Defense's ability to carry out its missions because it is:

(1) A source of new knowledge and understanding that supports DoD acquisition and leads to superior technological capabilities for the military; and

(2) An integral part of the education and training of scientists and engineers critical to meeting future needs of the Nation's defense workforce.

(b) The Department of Defense shall:

(1) Conduct a vigorous program of high quality basic research in the DoD Component laboratories; and

(2) Support high quality basic research done by institutions of higher education, other nonprofit research institutions, laboratories of other Federal agencies, and industrial research laboratories.

(c) The DoD Components' conduct and support of basic research shall be consistent with the principles stated in Appendix A to this part.

§ 272.5 Responsibilities.

(a) The Director of Defense Research and Engineering, under the Under Secretary of Defense for Acquisition, Technology, and Logistics (USD(AT&L)), shall:

(1) Provide technical leadership and oversight, issue guidance for plans and programs; develop policies; conduct analyses and studies; and make recommendations for DoD basic research.

(2) Recommend approval, modification, or disapproval of the DoD Components' basic research programs and projects to eliminate unpromising or unnecessarily duplicative programs, and to stimulate the initiation or support of promising ones.

(3) Recommend, through the USD(AT&L) to the Secretary of Defense, appropriate funding levels for DoD basic research.

(4) Develop and maintain a metrics program to measure and assess the quality and progress for DoD basic research, a required element of which is an independent technical review:

(i) At least biennially; and

(ii) With participation by all the Military Departments and all the other DoD Components that have basic research programs.

(5) Monitor the implementation of this part and issue any additional direction and guidance that may be necessary for that purpose.

(b) The Directors of the Defense Agencies supporting basic research and the Secretaries of the Military Departments, within their organizational purview, shall implement this part.

Appendix A to Part 272—Principles for the Conduct and Support of Basic Research

1. Basic research is an investment. The DoD Components are to view and manage basic research investments as a portfolio, with assessments of program success based on aggregate returns. There should be no expectation that every individual research effort will succeed because basic research essentially is an exploration of the unknown and specific outcomes are not predictable.

2. Basic research is along-term activity that requires continuity and stability of support. Individual basic research efforts sometimes return immediate dividends, with transitions directly from research laboratories to defense systems in the field. However, most often the full benefits of basic research are not apparent until much later. Therefore, the DoD Components must engage in long-term planning and funding of basic research to the maximum possible extent.

3. Balance is essential in the portfolio of basic research investments. A wide range of scientific and engineering fields is of potential interest to the Department of Defense and the DoD Components. It is important to develop a balanced portfolio that includes investments not only in established research areas with promise for evolutionary advances, but also in areas that entail higher risk and offer potential for revolutionary advances with correspondingly higher benefits.

4. Coordination with other Federal agencies is important. The DoD Components are to consider other Federal agencies' basic research investments when making investment decisions, both to avoid unintended overlapping of support and to leverage those agencies' investments as appropriate.

5. Merit review is used to select basic research projects for support. It is crucial that the Department of Defense invest in the highest quality research for defense needs. Merit review relies on the informed advice of qualified individuals who are independent of the individuals proposing to do the research. The principal merit review factors used in selecting among possible projects are technical merit and potential long-term relevance to defense missions.

Dated: September 19, 2005.
L.M. Bynum,
Alternate OSD Federal Register Liaison Officer, Department of Defense.

[FR Doc. 05-18985 Filed 9-22-05; 8:45 am]

BILLING CODE 5001-06-M